DEPARTMENT OF THE INTERIOR

National Park Service

[NPS-WASO-NAGPRA-NPS0027840; PPWOCRADN0-PCU00RP14.R50000]

Notice of Inventory Completion: Artesia Historical Museum and Art Center, Artesia, NM

AGENCY: National Park Service, Interior.

ACTION: Notice.

SUMMARY: The Artesia Historical Museum and Art Center has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Artesia Historical Museum and Art Center. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Artesia Historical Museum and Art Center at the address in this notice by July 3, 2019.

ADDRESSES: Nancy Dunn, Museum Manager, Artesia Historical Museum and Art Center, 505 West Richardson Avenue, Artesia, NM 88210, telephone (575) 748-2390, email artesiamuseum@artesianm.gov.

SUPPLEMENTARY INFORMATION: Notice is here given in accordance with the Native American Graves Protection and Repatriation Act (NAGPRA), 25 U.S.C. 3003, of the completion of an inventory of human remains under the control of the Artesia Historical Museum and Art Center, Artesia, NM. The human remains were removed from a cave near Mogollon, Catron County, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Artesia Historical Museum and Art Center. The following tribes with ancestral ties to the Mogollon/Gila Cliff Dwellings area of New Mexico were invited to consult on the human remains: Fort Sill Apache Tribe of Oklahoma; Kewa Pueblo, New Mexico (previously listed as the Pueblo of Santo Domingo); Mescalero Apache Tribe of the Mescalero Reservation, New Mexico; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; ; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as the Ysleta Del Sur Pueblo of Texas); and Zuni Tribe of the Zuni Reservation, New Mexico. Hereafter, they are referred to as “The Invited Tribes.” To date, none of The Invited Tribes have requested consultation with the Museum.

History and Description of the Remains

In 1968 or 1969, human remains representing, at minimum, one individual were removed from a cave near Mogollon in Catron County, NM. A group of College of Artesia students, led by Dr. Pritchford, collected the human remains from a cave near the Gila Cliff Dwellings National Monument, outside the Federal land boundaries. Dr. Pritchford gave the human remains to fellow College of Artesia faculty member Dr. Stiff, who in turn gave them to Artesia resident Ted Carder. Ted Carder donated the human remains to the Artesia Historical Museum and Art Center in 1971. The 1971 accession record only identifies these human remains as an “Indian Skull.” In 2016, a former College of Artesia student provided information that led to the discovery of the collection history. An osteological examination conducted by the Maxwell Museum of Anthropology in 2016 showed that the human remains, which consist of a partial skull, belonged to an infant aged approximately three months. No known individuals were identified. No associated funerary objects are present.

The Gila Wilderness region of New Mexico, located in the southwest part of the state, is home to the Gila Cliff Dwellings National Monument. This region was originally settled by the Mogollon culture, who abandoned the area for good ca. 1150. Contemporary Pueblo people in the southwest who claim descent from the Mogollon culture have continued the distinctive Mimbres pottery tradition created by the Mimbres Mogollon branch/subgroup of the Mogollon culture.

After the Mogollon culture largely abandoned the Gila Wilderness region, the Apache people lived there, A.D. 1200-1600. Since the skull fragment was in too poor condition for its age to be determined, it may date from either the Mogollon period of occupation (200-1150), or the later Apache occupation (1200-1600).

The human remains have been determined to be “Native American” based on their having been collected from a cave burial site in the Gila Wilderness region and their identification as an “Indian Skull” in the original accession record.

Determinations Made by the Artesia Historical Museum and Art Center

Officials of the Artesia Historical Museum and Art Center have determined that:

• Pursuant to 25 U.S.C. 3001(9), the human remains described in this notice represent the physical remains of one individual of Native American ancestry.

• Pursuant to 25 U.S.C. 3001(2), there is a relationship of shared group identity that can be reasonably traced between the Native American human remains and The Invited Tribes.

Additional Requestors and Disposition

Lineal descendants or representatives of any Indian Tribe or Native Hawaiian organization not identified in this notice that wish to request transfer of control of these human remains should submit a written request with information in support of the request to Nancy Dunn, Museum Manager, Artesia Historical Museum and Art Center, 505 West Richardson Avenue, Artesia, NM 88210, telephone (575) 748-2390, email artesiamuseum@artesianm.gov, by July 3, 2019. After that date, if no additional requestors have come forward, transfer of control of the human remains to The Invited Tribes may proceed.

The Artesia Historical Museum and Art Center is responsible for notifying The Invited Tribes that this notice has been published.

Dated: May 2, 2019.
Melanie O'Brien,
Manager, National NAGPRA Program.

[FR Doc. 2019-11427 Filed 5-31-19; 8:45 am]

BILLING CODE 4312-52-P